DEPARTMENT OF THE INTERIOR

Fish and Wildlife Service

Receipt of Applications for Endangered Species Permits

AGENCY: Fish and Wildlife Service, Interior.

ACTION: Notice of receipt of applications for permits.

SUMMARY: The public is invited to comment on following applications to conduct certain activities with endangered species. We provide this notice pursuant to section 10(c) of the Endangered Species Act of 1973, as amended (16 U.S.C. 1531 et seq.).

DATES: We must receive written data or comments on these applications at the address given below, by November 28, 2003.

ADDRESSES: Documents and other information submitted with these applications are available for review, subject to the requirements of the Privacy Act and Freedom of Information Act, by any party who submits a written request for a copy of such documents to the following office within 30 days of the date of publication of this notice: U.S. Fish and Wildlife Service, 1875 Century Boulevard, Suite 200, Atlanta, Georgia 30345 (Attn: Victoria Davis, Permit Biologist).

FOR FURTHER INFORMATION CONTACT: Victoria Davis, telephone 404/679-4176; facsimile 404/679-7081.

SUPPLEMENTARY INFORMATION: The public is invited to comment on the following applications for permits to conduct certain activities with endangered species. If you wish to comment, you may submit comments by any one of several methods. You may mail comments to the Service's Regional Office (see ADDRESSES section) or via electronic mail (e-mail) to victoria_davis@fws.gov. Please submit electronic comments as an ASCII file avoiding the use of special characters and any form of encryption. Please also include your name and return address in your e-mail message. If you do not receive a confirmation from the Service that we have received your e-mail message, contact us directly at the telephone number listed above (see FOR FURTHER INFORMATION CONTACT section). Finally, you may hand deliver comments to the Service office listed above (see ADDRESSES section).

Our practice is to make comments, including names and home addresses of respondents, available for public review during regular business hours. Individual respondents may request that we withhold their home address from the administrative record. We will honor such requests to the extent allowable by law. There may also be other circumstances in which we would withhold from the administrative record a respondent's identity, as allowable by law. If you wish us to withhold your name and address, you must state this prominently at the beginning of your comments. However, we will not consider anonymous comments. We will make all submissions from organizations or businesses, and from individuals identifying themselves as representatives or officials of organizations or businesses, available for public inspection in their entirety.

TE077853-0

Applicant: J. Logan Williams, North Carolina Department of Transportation—Project Development, Raleigh, North Carolina

The applicant requests authorization to take (handle and release) the Appalachian elktoe (Alasmidonta raveneliana) and the James spinymussel (Pleurobema collina) while conducting presence/absence surveys for transportation projects in Stokes and Rockingham Counties, North Carolina.

TE077865-0

Applicant: Audubon Nature Institute, Betsy L. Dresser, New Orleans, Louisiana

The applicant requests authorization to take (permanently house in captivity, naturally breed, artificially inseminate, use costume chick for rearing, and provide rehabilitation treatment) to the Mississippi sandhill crane (Grus canadensis pulla) and the Whooping crane (Grus Americana) while participating in a captive propagation program to enhance the wild population in cooperation with the U.S. Fish and Wildlife Service. Capture propagation will take place at the Audubon Nature Institute, Center for Research of Endangered Species, Freeport-McMoRan Audubon Species Survival Center, New Orleans, Louisiana.

Dated: October 10, 2003.
Sam D. Hamilton,
Regional Director.

[FR Doc. 03-27105 Filed 10-27-03; 8:45 am]

BILLING CODE 4310-55-P